DEPARTMENT OF HEALTH AND HUMAN SERVICES

Administration for Children and Families

Proposed Information Collection Activity; Comment Request

Proposed Projects:

Title: Head Start Family and Child Experiences Survey (FACES) and Quality Research Centers.

OMB No.: Revision of a currently approved collection (OMB No. 0970-0151).

Description: The Administration for Children and Families (ACF) of the Department of Health and Human Services (DHHS) is requesting comments on plans to collect data on a new cohort for the Head Start Family and Child Experiences Survey (FACES). This study is being conducted under contract with Westat, Inc. (with Xtria, LCC and the CDM Group as their subcontractors) (contract #GS23F8144H; order #03Y00318101D) to collect information on Head Start performance measures.

FACES will involve four waves of data collection. The first wave will occur in Fall 2003. Data will be collected on a sample of approximately 2,600 children and families from about 260 classrooms across 70 programs. Data collection will include assessments of Head Start children, interviews with their parents, and ratings by their Head Start teachers. Further, site visitors will interview Head Start teachers and make observations of the types and quality of classroom activities.

The second wave, which will be a repeat of the Fall 2003 data collection, will occur in Spring 2004 when the sample children are at the end of their first year of Head Start.

The third wave will occur in Spring 2005, and will involve follow-up with children who at this time are either comleting a second year in Head Start, or completing kindergarten. For those children who are still attending Head Start, data collection will follow the same procedures as in Spring 2004. For those children attending kindergarten, data collection will include assessments of Head Start children, an “update” survey of the information collected from the parent interview, and ratings of the children's academic progress and school adjustment by kindergarten teachers.

The fourth wave of data collection will occur in Spring 2006. Children who attended kindergarten the previous year will not be included in this wave. The procedures for this effort will be the same as for kindergartners in Spring 2005.

For the Head Start Quality Research Centers, 100 children in eight sites will be followed during each of two program years, 2003-2004 and 2004-2005. FACES procedures will be carried out, including child assessments, parent and teacher interviews, and observations of types and quality of classroom activities.

This schedule of data collection is necessitated by the mandates of the Government Performance and Results Act (GPRA) of 1993 (Pub. L. 103-62), which requires that the Head Start Bureau move expeditiously toward development and testing of Head Start Performance Measures, and by the 1994 reauthorization of Head Start (Head Start Act, as amended, May 18, 1994, Section 649 (d)), which requires periodic assessments of Head Start's quality and effectiveness.

Respondents: Federal Government, Individuals or Households, and Not-for-profit institutions.

Annual Burden Estimates

Estimated Response Burden for Respondents to the Head Start Family and Child Experiences Survey (FACES 2003)—Fall 2003, Spring 2004, Spring 2005, Spring 2006.

Instrument | Number of respondents | Number of responses per respondent | Average burden hours per response | Total burden hours
Year 1 (2003)
Head Start Parent Interview | 2,600 | 1 | 1.00 | 2,600
Head Start Child Assessment | 2,600 | 1 | 0.66 | 1,716
Teacher Child Rating | 260 | 10 | 0.25 | 650
Program Director Interview | 70 | 1 | 1.00 | 70
Center Director Interview | 130 | 1 | 1.00 | 130
Education Coordinator Interview | 130 | 1 | 0.75 | 98
Teacher Interview | 260 | 1 | 1.00 | 260
Year 2 (2004)
Head Start Parent Interview | 2,210 | 1 | 0.75 | 1,658
Head Start Child Assessment | 2,210 | 1 | 0.66 | 1,459
Teacher Child Rating | 260 | 8 | 0.25 | 520
Family Service Coordinator Interview | 130 | 1 | 0.75 | 173
Year 3 (2005)
Head Start Parent Interview | 730 | 1 | 0.75 | 548
Head Start Child Assessment | 730 | 1 | 0.66 | 482
Teacher Child Rating | 85 | 6 | 0.25 | 128
Kindergarten Parent Interview | 1,480 | 1 | 0.75 | 1,110
Kindergarten Child Assessment | 1,480 | 1 | 0.75 | 1,110
Kindergarten Teacher Questionnaire | 1,480 | 1 | 0.50 | 740
Year 4 (2006)
Kindergarten Parent Interview | 740 | 1 | 0.75 | 555
Kindergarten Child Assessment | 740 | 1 | 0.75 | 555
Kindergarten Teacher Questionnaire | 740 | 1 | 0.50 | 370
Estimated Total Annual Burden Hours |  |  |  | 14,932

Estimated Response Burden for Respondents to the Head Start Quality Research Centers (FACES QRC 2003)—Fall 2003, Spring 2004, Spring 2005.

Instrument | Number of respondents | Number of responses per respondent | Average burden hours per response | Total burden hours
Year 1 (2003)
Head Start Parent Interview | 800 | 1 | 1.00 | 800
Head Start Child Assessment | 800 | 1 | 0.66 | 528
Teacher Child Rating | 80 | 10 | 0.25 | 20
Teacher Interview | 80 | 1 | 1.00 | 80
Year 2 (2004)
Head Start Parent Interview | 1,480 | 1 | 1.00 | 1,480
Head Start Child Assessment | 1,480 | 1 | 0.66 | 977
Teacher Child Rating | 160 | 8 | 0.25 | 320
Year 3 (2005)
Head Start Parent Interview | 680 | 1 | 1.00 | 680
Head Start Child Assessment | 680 | 1 | 0.66 | 449
Teacher Child Rating | 180 | 6 | 0.25 | 270
Estimated Total Annual Burden Hours |  |  |  | 5,604

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: rsargis@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: June 2, 2003.
Robert Sargis,
Reports Clearance Officer.

[FR Doc. 03-14153 Filed 6-4-03; 8:45 am]

BILLING CODE 4184-01-M